DEPARTMENT OF ENERGY

Federal Energy Regulatory Commission

[Docket No. CP03-345-000]

National Fuel Gas Supply Corporation; Notice of Application

August 6, 2003.

Take notice that on August 4, 2003, National Fuel Gas Supply Corp. (National Fuel), 10 Lafayette Square, Buffalo, New York 14203, filed in Docket No. CP03-345-000, an application pursuant to section 7(c) of the Natural Gas Act, as amended (NGA), and of part 157 of the Federal Energy Regulatory Commission's (Commission) Regulations thereunder, for a certificate of public convenience and necessity authorizing National Fuel to construct and operate certain facilities located in Potter County, Pennsylvania, all as more fully set forth in the application which is on file with the Commission and open to public inspection. This application is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or for TTY, contact (202) 502-8659.

National Fuel states that it proposes to construct and operate an interconnection station to establish direct connection between its existing gas transmission facilities and the Hebron Storage Field, which are not currently directly connected. National Fuel states that the Hebron Storage Field is jointly owned by National Fuel and Tennessee Gas Pipeline Company (Tennessee), and currently National Fuel must have its withdrawal gas delivered by Tennessee. National Fuel states that the proposed interconnect station will be used for withdrawal of gas only and will increase the maximum deliverability for the storage field early in the injection season from approximately 385 MMcf per day to approximately 425 MMcf per day.

National Fuel indicates that the new interconnection station would include a metering and regulation station and associated pipeline facilities and would be located on its 24-inch transmission pipeline, designated Line Y-M2, near the Hebron Storage Field in Hebron Township, Potter County, Pennsylvania. National Fuel estimates the cost of constructing the proposed facilities is $1,434,192.

Any questions regarding the application should be directed to David W. Reitz, Deputy General Counsel for National Fuel, 10 Lafayette Square, Buffalo, New York 14203 at (719) 857-7949, or at reitzd@natfuel.com.

There are two ways to become involved in the Commission's review of this project. First, any person wishing to obtain legal status by becoming a party to the proceedings for this project should, on or before the comment date stated below file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made in the proceeding with the Commission and must mail a copy to the applicant and to every other party. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Protests and interventions may be filed electronically via the Internet in lieu of paper; see 18 CFR 385.2001(a)(1)(iii) and the instructions on the Commission's Web site under the “e-Filing” link. The Commission strongly encourages electronic filings.

Comment Date: August 18, 2003.

Magalie R. Salas,
Secretary.

[FR Doc. 03-20614 Filed 8-12-03; 8:45 am]

BILLING CODE 6717-01-P